DEPARTMENT OF DEFENSE

Office of the Secretary

Renewal of Department of Defense Federal Advisory Committees—Defense Innovation Board

AGENCY: Department of Defense (DoD).

ACTION: Renewal of Federal Advisory Committee.

SUMMARY: The DoD is publishing this notice to announce that it is renewing the Defense Innovation Board (DIB).

FOR FURTHER INFORMATION CONTACT: Jim Freeman, DoD Advisory Committee Management Officer, 703-692-5952.

SUPPLEMENTARY INFORMATION: The DIB is being renewed in accordance with the Federal Advisory Committee Act (FACA) (5 U.S.C., appendix) and 41 CFR 102-3.50(d). The charter and contact information for the DIB's Designated Federal Officer (DFO) are found at https://www.facadatabase.gov/FACA/apex/FACAPublicAgencyNavigation.

The DIB provides the Secretary of Defense and Deputy Secretary of Defense with independent advice and recommendations to address challenges and accelerate innovation adoption into the culture, technologies, organizational structures, processes, and functions of the DoD. The DIB shall focus on innovative means to address future challenges and accelerate innovation adoption into the culture, technologies, organizational structures, processes, and any other topics raised by the Secretary of Defense or the Deputy Secretary of Defense (“the DoD Appointing Authority”) or the Under Secretary of Defense for Research and Engineering (USD(R&E)) unless otherwise provided for by statute or Presidential directive. The DIB is composed of no more than 20 members must possess some or all of the following: (a) A proven track record of sound judgment in leading or governing large, complex private sector corporations or organizations; (b) demonstrated performance in identifying and adopting new technology innovations into the operations of large organizations in either the public or private sector; (c) demonstrated performance in developing new technology concepts; and (d) a proven track record as a distinguished academic or researcher at an accredited college or institute of higher education. Members will consist of talented, innovative leaders with a diversity of background, experience, and thought in support of the DIB missions.

Individual members are appointed according to DoD policy and procedures, and serve a term of service of one-to-four years with annual renewals. One member will be appointed as Chair of the DIB. No member, unless approved according to DoD policy and procedures, may serve more than two consecutive terms of service on the DIB, or serve on more than two DoD Federal advisory committees at one time.

DIB members who are not full-time or permanent part-time Federal civilian officers or employees, or active duty members of the Uniformed Services, shall be appointed as experts or consultants pursuant to 5 U.S.C. 3109 to serve as special government employee members. DIB members who are full-time or permanent part-time civilian officers or employees, or active duty members of the Uniformed Services, shall be appointed pursuant to 41 CFR 102-3.130(a) to serve as regular employee members.

All members of the DIB are appointed to exercise their own best judgment, without representing any particular point of view, and to discuss and deliberate in a manner that is free from conflict of interest. Except for reimbursement of official DIB-related travel and per diem, members serve without compensation.

The public or interested organizations may submit written statements about the DIB's mission and functions. Written statements may be submitted at any time or in response to the stated agenda of planned meeting of the DIB. All written statements shall be submitted to the DFO for the DIB, and this individual will ensure that the written statements are provided to the membership for their consideration.

Dated: April 15, 2022.
Aaron T. Siegel,
Alternate OSD Federal Register Liaison Officer, Department of Defense.

[FR Doc. 2022-08485 Filed 4-20-22; 8:45 am]

BILLING CODE 5001-06-P